ENVIRONMENTAL PROTECTION AGENCY

[ER-FRL-6636-2]

Environmental Impact Statements; Notice of Availability

Responsible Agency: Office of Federal Activities, General Information (202) 564-7167 or http://www.epa.gov/compliance/nepa/. Weekly receipt of Environmental Impact Statements Filed December 16, 2002 Through December 20, 2002 Pursuant to 40 CFR 1506.9.

EIS No. 020517, FINAL SUPPLEMENT, AFS, ID, North Lochsa Face Landscape and Watershed Assessment Project, Implementation, Clearwater National Forest, Lochsa Ranger District, Idaho County, ID, Wait Period Ends: February 10, 2003, Contact: Lois Foster (208) 935-4258.

EIS No. 020518, FINAL EIS, AFS, KY, Daniel Boone National Forest Land Exchange Project, Exchanging two Federal Tracts for 98.17 Acres of Privately Owned Land located in Owsley County, Federal Lands to be considered are Tract 107AB (52.15 acres) located on Langdon Branch in Leslie County and Tract 745 (39.96 acres) located on Spicer Fork in Perry County, KY, Wait Period Ends: January 27, 2002, Contact: William M. Rock (859) 745-3100.

EIS No. 020519, DRAFT EIS, NPS, WA, Fort Vancouver National Historic Site, General Management Plan, Development Concept Plans, Implementation, Oregon County, WA, Comment Period Ends: February 25, 2003, Contact: Alan Schmierer (510) 817-1441.

EIS No. 020520, DRAFT EIS, FHW, NY, Slingerlands Bypass Extension (NYS Route 85) (P.I.N. 1125.19) Route 140 (Cherry Avenue Extension) to the Albany City Line, Reconstruction Town of Bethlehem, Albany County, NY, Comment Period Ends: February 18, 2003, Contact: Robert Arnold (518) 431-4127.

EIS No. 020521, DRAFT EIS, AFS, MT, Management Area 11 Snowmobile Use Areas on the Seeley Lake Ranger District, Implementation, Lola National Forest, Missoula and Powell Counties, MT, Comment Period Ends: February 11, 2003, Contact: Timothy G. Love (406) 677-2233.

EIS No. 020522, FINAL EIS, AFS, CA, Brown Darby Fuel Reduction Project, Proposal for a Combination of the Salvage Harvesting of Trees Killed and other Fuels Management Activities, Stanislaus National Forest, Calaveras Ranger District, Calaveras and Tuolumne Counties, CA, Wait Period Ends: January 27, 2003, Contact: Kathy Aldrich (209) 795-1381. This document is available on the Internet at: http://www.r5.fs.fed.us/stanislaus.

EIS No. 020523, FINAL EIS, COE, CA, Middle Creek Flood Damage Reduction and Ecosystem Restoration Project, Implementation, Located between Highway 20 and Middle Creek immediately northwest of Clear Lake, Lake County, CA, Wait Period Ends: January 27, 2003, Contact: Jerry Fuentes (916) 557-6706.

EIS No. 020524, DRAFT EIS, FHW, MO, MO-17 Transportation Improvement Project, From South of Route O to South of Howell County Line Bridge Replacement with Approaches Job # J9P0440, Texas, Shannon and Howell Counties, MO, Comment Period Ends: February 18, 2003, Contact: Don Neumann (573) 636-7104.

EIS No. 020525, FINAL EIS, COE, FL, Fort Pierce Shore Protection Project, Future Dredging of Capron Shoal, Implementation, St. Lucie County, FL, Wait Period Ends: January 27, 2003, Contact: William Lang (904) 232-2615.

EIS No. 020526, FINAL EIS, USA, KY, Blue Grass Army Depot, Destruction of Chemical Munitions, Design, Construction, Operation and Closure of a Facility to Destroy the Chemical Agent and Munitions, Madison County, KY, Wait Period Ends: January 27, 2003, Contact: Penny Robitaille (410) 436-4178.

EIS No. 020527, FINAL EIS, NOA, WA, Anadromous Fish Agreements and Habitat Conservation Plans for the Wells, Rocky Reach, and Rock Island Hydroelectric Projects, Implementation, Incidental Take Permits, Chelan and Douglas Counties, WA, Wait Period Ends: January 27, 2003, Contact: Ritchie Graves (503) 231-6891. This document is available on the Internet at: http://www.nwr.noaa.gov.

Amended Notices

EIS No. 020442, DRAFT EIS, COE, FL, Ona Mine Project, Proposes to Construct and Operate a Surface Mine for the Recovery of Phosphate Rock, in Western Hardee County, FL, Comment Period Ends: March 03, 2003, Contact: Charles A. Schnepel (813) 840-2908. Revision of FR Notice Published on 11/01/2002: CEQ Comment Period Ending 12/16/2002 has been Extended to 3/3/2003.

Dated: December 23, 2002.
Joseph C. Montgomery,
Director, NEPA Compliance Division, Office of Federal Activities.

[FR Doc. 02-32789 Filed 12-26-02; 8:45 am]

BILLING CODE 6560-50-P